DEPARTMENT OF HEALTH AND HUMAN SERVICES

Centers for Disease Control and Prevention

Cooperative Agreement Program to Increase the Knowledge and Skills of Disadvantaged Minority Students Under-Represented in the Areas of Biostatistics, Epidemiology, and Occupational Safety and Health

Announcement Type: New.

Funding Opportunity Number: RFA 05053.

Catalog of Federal Domestic Assistance Number: 93.283.

Key Dates:

Application Deadline: March 28, 2005.

I. Funding Opportunity Description

Authority: This program is authorized under Sections 317(k)(2) of the Public Health Service Act, [42 U.S.C. Section 247b(k)(2), as amended. In addition, the program is authorized under Presidential Executive Orders related to advancing opportunities for higher education and strengthening capacity of Historically Black Colleges and Universities (HBCUs), Tribal Colleges and Universities, (TCUs), and Hispanic Serving Institutions (HSIs).

Purpose: The purpose of the program is to increase the knowledge, skills, and research training of disadvantaged minority students including racial and ethnic minorities who are under-represented in the areas of biostatistics and epidemiology, and occupational safety and health. Specifically, the program is intended to assist a minority institution of higher education (MIHE) to:

(1) Develop an undergraduate research training and internship program for disadvantaged minority students.

(2) Increase the knowledge and skills of disadvantaged minority undergraduate students in two categories of specialization: category I—epidemiology and biostatistics, and category II—occupational safety and health.

(3) Expand the educational and applied public health research training and skills development opportunities and experiences in the two fields of specialization (epidemiology and biostatistics, and occupational safety and health) for disadvantaged minority students who are interested in pursuing public health careers.

(4) Develop and implement a public health science curriculum at an MIHE.

(5) Foster linkages and collaboration among students and faculty in developing epidemiological and analytical knowledge base for the health status of disadvantaged minority students in America.

(6) Increase the number of disadvantaged minority students with advanced degrees in epidemiology, biostatistics,and occupational safety and health.

This program addresses the following “Healthy People 2010” focus area(s): Access to Quality Health Services, Educational and Community-Based Programs, and Public Health Infrastructure. This program also addresses the performance of executive agency actions under Executive Orders 13256, 13230, and 13270 in order to advance the development of the Nation's full human potential and to advance equal opportunity in higher education, to strengthen the capacity of HBCUs, HSIs, and TCUs, respectively, to provide the highest quality education, and to increase opportunities for these institutions to participate in and benefit from Federal programs. The program also addresses the Occupational Health and Safety Act of 1970, which assures safe and healthful working conditions for working men and women and provides research, information, education, and training in the field of occupational safety and health. In addition, the program addresses the Department's priority activity to eliminate disparities in health, including striving for racial and ethnic parity in the health professions.

Measurable outcomes of the program will be in alignment with one (or more) of the following performance goal(s) for the Office of Minority Health:

Goal 1: Prepare disadvantaged minority medical, veterinary, pharmacy, and graduate students for careers in public health.

Goal 2: Support HBCUs, HSIs, and TCUs by increasing the number of funding mechanisms and the number of minority-serving institutions receiving support.

This announcement is only for non-research activities supported by CDC/ATSDR. If research is proposed, the application will not be reviewed. For the definition of research, please see the CDC web site at the following Internet address: http://www.cdc.gov/od/ads/opspoll1.htm.

Activities: Awardee activities for this program are as follows: a. Internship Programs: The recipient should plan and manage an undergraduate summer internship program for disadvantaged minority students that emphasizes the two categories of specialization: Category I—training in biostatistics and epidemiology where plans will be developed to train students at CDC Centers, Institute, and Offices (CIOs) and other locations as appropriate, and Category II—occupational safety and health where plans will be developed to train students in the National Institute of Occupational Safety and Health (NIOSH) laboratories. Examples of activities that may be undertaken, include, but are not limited to the following:

1. Establish criteria for competitive selection of prospective students for both categories of specialization for the summer internship program that is consistent with the goals and objectives of the cooperative agreement. For example, a criteria for competitive selection might include the requirement for completion of one or more courses in biostatistics, epidemiology, or occupational safety and health; grade of B or above in overall course work; likelihood of the student to pursue a career in public health, research experience, other academic performance; and performance on personal interviews.

2. Identify and recruit undergraduate minority students who have successfully completed at least the sophomore year in college and who have expressed an interest in pursuing a career in the health sciences, occupational safety and health, industrial hygiene, environmental sciences, engineering, physics, social and behavioral sciences, or mathematics.

3. Provide mechanisms for supporting the participation of students in the summer internship program with the requirement that students should be available to participate fully in the program activities.

4. Provide adequate technical assistance and consultants, (e.g., computer analysis, biostatistics, epidemiology, occupational safety and health), to assist the students in successfully completing the requirements of the internship program.

5. Establish and maintain a database with demographic information on previous years' interns for the purpose of evaluation.

6. Establish a mechanism to award three semester (or equivalent) credit hours to research interns upon successful completion of research projects that is consistent with recipient academic policies and procedures.

7. Maintain a liaison with the category II specialization, occupational safety and health.

b. Educational Support and Curriculum Development: The recipient should develop and implement an educational support curriculum that includes, at a minimum, a Public Health Sciences Curriculum that emphasizes epidemiology, biostatistics, occupational safety and health, and related academic courses, including practicum. The public health sciences curriculum should be consistent with the institutional policies and procedures of the recipient, and include at least one semester (or equivalent) of biostatistics and epidemiology. In implementing the public health sciences curriculum developed under this agreement, the recipient should:

1. Collaborate among, and across the recipient institution's educational departments to demonstrate the cross disciplinary advantages of public health practice, and the importance of integrative and multi-disciplinary approaches to improving the health status and quality of life of disadvantaged minority persons.

2. Demonstrate how the public health sciences curriculum and educational support will enhance opportunities for disadvantaged minority students to obtain advanced degrees in epidemiology, biostatistics, and occupational safety and health from graduate programs housed within schools of public health or medicine.

3. Develop, plan and provide other educational support for encouraging the pro-active recruitment of undergraduate students majoring in disciplines other than biology, chemistry, community health, or pre -medicine to increase their knowledge of public health practice.

4. Establish a mechanism to award three (3) semester (or equivalent) credit hours to students who enroll and complete each of the public health sciences curriculum courses.

c. Research Training and Skills Development: The recipient should develop plans and approaches to make applied public health research training projects (e.g., community assessments, programs and materials evaluation) an integral part of the public health sciences curriculum. The recipient should describe its existing and/or anticipated resources, (e.g., computer resources, and faculty members with applicable research experiences) which will ensure hands-on analytic research training and participation for the undergraduate students.

d. Public Health Sciences Advisory Group: The recipient should establish a Public Health Sciences Advisory Group to advise the recipient on the implementation of the cooperative agreement program. Examples of activities that the Public Health Advisory Group might perform include the following:

1. Serve as liaison between the recipient institution and the public health education, training and research program.

2. Review applications and/or interview prospective interns.

3. Review proposals or research project descriptions submitted by the CDC to be analyzed by the students during the summer internship, and

4. Evaluate the public health sciences program on operating aspects, such as education, training and research components, and make suggestions for overall program improvement.

e. Staffing and Management: The recipient should provide adequate staffing and management resources for the successful implementation of the cooperative agreement. For example, the following positions might be identified as key staff: Principal Investigator (PI), Executive Director (ED), Educational Program Coordinator, Occupational Safety and Health Coordinator, and Research Training Coordinator. The recipient should ensure that qualifications of key personnel are consistent with personnel policies and practices of the institution.

f. Evaluation Plan: The recipient is required to evaluate the management and performance of the students, including specific measures of a successful program and the frequency/time-frame for the evaluations (i.e., process and outcome evaluations). The recipient shall develop a computerized tracking system used as an evaluation tool for following-up the future professional activities of the students who have participated in this cooperative education program.

In a cooperative agreement, CDC staff is substantially involved in the program activities, above and beyond routine grant monitoring.

CDC Activities for this program are as follows:

a. As needed, collaborate with the recipient, and provide consultation, assistance and support in planning, implementing and evaluating all aspects of the cooperative agreement.

b. As needed, collaborate with the recipient to establish criteria for evaluating both short- and long-term success of the public health sciences education, training, and research programs.

c. As needed, provide consultation and advice to the key program staff regarding administrative planning and program evaluation for program development in future years.

d. As needed, provide computer equipment (hardware and requisite software) to the computer, statistical, biostatistics, and the occupational safety and health consultants, interns and Public Health Science Institute faculty.

e. As needed, provide access to data sets, CDC mainframe computer, personal computers, word processors, research activities and other facilities that would be beneficial to program participants.

f. As needed, provide on-site office space and mentors to instruct the summer interns in the analysis of data sets.

g. As needed, provide meeting and office space at CDC for the summer participants, the coordinators, and the consultants for activities to be carried out during the summer internship program.

h. As needed, provide staff to give seminars to students who are selected for the internship program.

i. As needed or requested, provide technical support to assist the recipient in curriculum development and implementation of public health-related courses.

j. Collaborate in program planning and consultation with participants in the summer research program.

k. As needed or requested, provide applied public health research opportunities to allow students hands-on research experience and skills development training.

II. Award Information

Type of Award: Cooperative Agreement.

CDC involvement in this program is listed in the Activities Section above.

Fiscal Year Funds: 2005.

Approximate Total Funding: $200,000. (This amount is an estimate for the category I specialization biostatistics and epidemiology, and is subject to availability of funds. In addition, depending on availability of funds, approximately $150,000 will be available to fund the category II specialization occupational safety and health.)

Approximate Number of Awards: One.

Approximate Average Award: $200,000. (This amount is for the first 12-month budget period, and includes both direct and indirect costs for the Category I specialization only.)

Floor of Award Range: None.

Ceiling of Award Range: $200,000 (This ceiling is for the first 12-month budget period for the Category I specialization only.)

Anticipated Award Date: May 30, 2005.

Budget Period Length: 12 months.

Project Period Length: Five years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by any institutions of higher education that are designated as HBCUs, TCUs, HSIs, or those institutions of higher education whose total minority student enrollment exceeds 51 percent. Only MIHEs that offer undergraduate courses in community/allied health, computer sciences, mathematics, and/or biostatistics and epidemiology in their curriculum are eligible to apply. Competition is limited to MIHEs under this program announcement because there is a critical shortage of both disadvantaged minority students and minority professionals to plan, monitor, and evaluate the public health policies and programs that target the heterogeneous minority population groups in the U.S.

III.2. Cost Sharing or Matching

Matching funds are not required for this program.

III.3. Other

If you request a funding amount greater than the ceiling of the award range, your application will be considered non-responsive, and will not be entered into the review process. You will be notified that your application did not meet the submission requirements.

Special Requirements: If your application is incomplete or non-responsive to the special requirements listed in this section, it will not be entered into the review process. You will be notified that your application did not meet submission requirements.

• Late applications will be considered non-responsive. See section “IV.3. Submission Dates and Times” for more information on deadlines.

IV. Application and Submission Information

IV.1. Address To Request Application Package

To apply for this funding opportunity use application form PHS 5161-1. Application forms and instructions are available on the CDC Web site, at the following Internet address: http://www.cdc.gov/od/pgo/forminfo.htm.

Electronic Submission: CDC strongly encourages you to submit your application electronically by utilizing the forms and instructions posted for this announcement on www.Grants.gov, the official Federal agencywide E-grant Web site. Only applicants who apply online are permitted to forego paper copy submission of all application forms.

Paper Submission: Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Application: Electronic Submission: You may submit your application electronically at: http://www.grants.gov. Applications completed online through Grants.gov are considered formally submitted when the applicant organization's Authorizing Official electronically submits the application to http://www.grants.gov. Electronic applications will be considered as having met the deadline if the application has been submitted electronically by the applicant organization's Authorizing Official to Grants.gov on or before the deadline date and time.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

CDC recommends that you submit your application to Grants.gov early enough to resolve any unanticipated difficulties prior to the deadline. You may also submit a back-up paper submission of your application. Any such paper submission must be received in accordance with the requirements for timely submission detailed in Section IV.3. of the grant announcement. The paper submission must be clearly marked: “BACK-UP FOR ELECTRONIC SUBMISSION.” The paper submission must conform with all requirements for non-electronic submissions. If both electronic and back-up paper submissions are received by the deadline, the electronic version will be considered the official submission.

Paper Submission: If you plan to submit your application by hard copy, submit the original and two hard copies of your application by mail or express delivery service. Refer to section IV.6. Other Submission Requirements for submission address.

You must submit a project narrative with your application forms. The narrative must be submitted in the following format:

• Maximum number of pages: 40

If your narrative exceeds the page limit, only the first pages, which are within the page limit, will be reviewed.

• Font size: 12 point unreduced

• Double spaced

• Paper size: 8.5 by 11 inches

• Page margin size: One inch

• Printed only on one side of page

• Held together only by rubber bands or metal clips; not bound in any other way.

Your narrative should address activities to be conducted over the entire project period, and must include the following items in the order listed:

1. Executive Summary

The applicant should provide a concise, one to three page executive summary that clearly describes:

A. Eligibility, including: (a) Status as an eligible MIHE whose total minority student enrollment exceeds 51 percent.

(b) Letter certifying percent of minority student enrollment.

(c) Description of undergraduate courses in community/allied health, computer sciences, mathematics, and/or biostatistics and epidemiology, and (d) Experience and capacity as an MIHE to provide knowledge, skills research training in the two categories of specialization, (i.e., category I—epidemiology and biostatistics, and category II-occupational safety and health.)

B. The need for implementing a program to increase the knowledge, skills, and research training in category I—epidemiology and biostatistics, and category II-occupational safety and health among disadvantaged minority students.

C. The major proposed goals, objectives and activities for implementing the program as well as total requested amount of Federal funding for each category of specialization.

D. Applicant's capability to implement the program.

2. Capacity (not more than 12 pages)

a. Describe ability to address the identified need.

b. Describe efforts and relevant experience that support the activities proposed to accomplish the objective for which the applicant is applying, including:

(1) current and previous experience related to the proposed program activities,

(2) activities related to operating internship programs for at least the last 10 years;

(3) activities related to curriculum development,

(4) current and previous experience related to fostering linkages and collaboration among students and faculty, fostering integrative and multi-disciplinary approaches to improving health status, and

(5) current and previous experience with increasing the participation of disadvantaged minority students in public health careers.

c. Submit a copy of the project's management hierarchy, and describe how that structure supports the proposed program activities.

3. Operational Plan (Not more than 20 pages)

a. Goals—List goals that specifically relate to program requirements that indicate where the program will be at the end of the projected five-year period.

b. Objectives-List objectives that are specific, measurable, and feasible to be accomplished during the projected 12-month period. The objectives should directly relate to the project goals and recipient activities.

c. Describe in narrative form and display on a timetable, specific activities that are related to each objective. Indicate when each activity will occur as well as when preparations for activities will occur. Also, indicate who will be responsible for each activity and identify staff who will work on each activity. The applicant's proposal should include multiple subparts detailing its approach to fulfill the following program requirements:

(1) Internship Program

The applicant must describe a methodology for planning and managing summer internship activities (for example: recruitment strategies, program operations, and program and course scheduling in each category of specialization, i.e., category I—biostatistics and epidemiology, and category II—occupational safety and health, and establishing a data base of previous years' interns); the applicant must document a 10-year track record of implementing public health internship and fellowship programs for minority students; the applicant must describe its history of collaborating with CDC on public health training programs for minority students; the applicant must submit documentation of dedicated servers and a computer laboratory suitable for research training and data analysis.

(2) Educational Support and Curriculum Development-The applicant's application must describe a plan to develop and implement a public health sciences curriculum that emphasizes the category I specialization—epidemiology and biostatistics, and category II specialization-occupational safety and health, as well as related academic courses. The applicant must describe its prior experience in providing training programs for minority students in epidemiology, biostatistics and occupational safety and health. Consistent with the educational and administrative policies of the recipient, the application should also describe how the recipient will accomplish the following: (a) Encourage undergraduate students majoring in disciplines other than biology, chemistry, community health, and pre-medicine to increase their knowledge of public health practice; (b) demonstrate how the curriculum and educational support will enhance opportunities for minority students to obtain advanced degrees in epidemiology, biostatistics, and occupational safety and health; (c) encourage interdepartmental activities that provide integrative and multi-disciplinary approaches, knowledge and skills to improve health status; (d) describe how the recipient will incorporate a practicum to give students hands-on research experience in each category of specialization, i.e., category I—biostatistics and epidemiology, and category II—occupational safety and health; (e) describe parameters for establishing a mechanism to award three semester (or equivalent) credit hours to students who enroll and complete each of the public health science curriculum courses and internship programs.

(3) Research Training and Skills Development

The applicant must describe their plans and approaches to make applied public health research projects an integral part of the public health sciences curriculum. Each applicant must describe its existing and/or anticipated resources (e.g., computer resources and faculty members with applicable research experiences) which will ensure hands-on-analytic research training for the undergraduate students.

(4) Public Health Advisory Group

The applicant must include a description of plans to establish a Public Health Advisory Group to advise on the implementation of the cooperative agreement program.

(5) Staffing and Management

The applicant must describe the proposed staffing for the project and provide job descriptions for existing and proposed positions. See proposed definition of key personnel in the section on program requirements.

(a) Submit curriculum vitae (limited to 2 pages per person) for each professional staff member named in the application and document expertise and other sources of support for implementing public health internship/fellowship programs for minority students.

(b) Submit job descriptions illustrating the level of organizational responsibility for professional staff who will be assigned to the project.

(c) Submit an outline of the hierarchy of a management plan which shall assure fiscal and programmatic accountability in accordance with the terms of this cooperative agreement. The management plan should clearly identify the officials who will manage this program and their specific responsibilities.

(d) Submit evidence of the MIHE's location in the south and in proximity to the CDC.

(6) Evaluation Plan (Not more than 5 pages).

The applicant must describe a plan that evaluates the program's effectiveness in meeting its objectives. For each of the types of evaluation listed below, specify the evaluation question to be answered, data to be obtained, the type of analysis, to whom it will be reported, and how data will be used to improve the program. Indicate in the plan the projected staff and time lines to be used.

(a) Process evaluation—Evaluate the program's progress in meeting objectives and conducting activities during the budget period.

(b) Outcome evaluation. Assess the effectiveness of proposed activities, including training sessions and documents developed in attaining goal(s) at the completion of the one year budget period and the five year project period.

(c) Computerized Tracking System. Applicants are required to develop a computerized tracking system to evaluate the effectiveness of the program in achieving its goals and objectives.

(7) Budgets and Accompanying Justifications.

The applicant must provide a detailed budget and line-item justification of all operating expenses for each category of academic specialization: Category I—epidemiology and biostatistics, and Category II—occupational safety and health. The budgets should be consistent with the stated objectives and planned activities of the project.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm.

If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: March 28, 2005.

Explanation of Deadlines: Applications must be received in the CDC Procurement and Grants Office by 4 p.m. Eastern Time on the deadline date. If you submit your application by the United States Postal Service or commercial delivery service, you must ensure that the carrier will be able to guarantee delivery by the closing date and time. If CDC receives your submission after closing due to: (1) carrier error, when the carrier accepted the package with a guarantee for delivery by the closing date and time, or (2) significant weather delays or natural disasters, you will be given the opportunity to submit documentation of the carriers guarantee. If the documentation verifies a carrier problem, CDC will consider the submission as having been received by the deadline.

This announcement is the definitive guide on application content, submission address, and deadline. It supersedes information provided in the application instructions. If your submission does not meet the deadline above, it will not be eligible for review, and will be discarded. You will be notified that you did not meet the submission requirements.

Electronic Submission: If you submit your application electronically with Grants.gov, your application will be electronically time/date stamped which will serve as receipt of submission. In turn, you will receive an e-mail notice of receipt when CDC receives the application. All electronic applications must be submitted by 4 p.m. Eastern Time on the application due date.

Paper Submission: CDC will not notify you upon receipt of your paper submission. If you have a question about the receipt of your LOI or application, first contact your courier. If you still have a question, contact the PGO-TIM staff at: 770-488-2700. Before calling, please wait two to three days after the submission deadline. This will allow time for submissions to be processed and logged.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospective applications, and to receive instructions on your state's process. Click on the following link to get the current SPOC list: http://www.whitehouse.gov/omb/grants/spoc.html.

IV.5. Funding Restrictions

Restrictions, which must be taken into account while writing your budget, are as follows:

• Funds may not be used for research.

• Reimbursement of pre-award costs is not allowed.

• Funds may not be used for construction costs.

If you are requesting indirect costs in your budget, you must include a copy of your indirect cost rate agreement. If your indirect cost rate is a provisional rate, the agreement should be less than 12 months of age. Guidance for completing your budget can be found on the CDC Web site, at the following Internet address: http://www.cdc.gov/od/pgo/funding/budgetguide.htm.

IV.6. Other Submission Requirements

Application Submission Address: Electronic Submission: CDC strongly encourages applicants to submit electronically at: http://www.Grants.gov. You will be able to download a copy of the application package from http://www.Grants.gov, complete it offline, and then upload and submit the application via the Grants.gov site. E-mail submissions will not be accepted. If you are having technical difficulties in Grants.gov they can be reached by E-mail at http://www.support@grants.gov or by phone at 1-800-518-4726 (1-800-518-GRANTS). The Customer Support Center is open from 7 a.m. to 9 p.m. Eastern Time, Monday through Friday.

Paper Submission: If you chose to submit a paper application, submit the original and two hard copies of your application by mail or express delivery service to: Technical Information Management—RFA 05053, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

—Internship Programs (25 points): Did the applicant explain the extent to which it will develop and implement a competitive undergraduate summer internship program that emphasizes biostatistics, epidemiology, and occupational safety and health? Did the applicant document at least a ten-year track record in implementing public health internship and fellowship programs for minority students? Were recruitment strategies identified for undergraduate students who have successfully completed at least the sophomore year in college and expressed an interest in pursuing a career in the health sciences, occupational safety and health, industrial hygiene, environmental sciences, engineering, physics or mathematics? Did the applicant provide mechanisms for supporting students during the summer internship program? Does the candidate document that adequate technical assistance (e.g., computer analysis, biostatistics, epidemiology, occupational safety and health) will be provided? Has the applicant established a mechanism to award the students three (3) semester (or equivalent) credit hours for successful completion of research projects? Does the applicant document a history of collaborating with CDC on public health training programs for minority students? Does the applicant document the presence of dedicated servers and a computer laboratory suitable to support research training and data analysis?

—Educational Support and Curriculum Development (20 points): Did the applicant submit a plan which explains how an educational support curriculum will be developed that includes at a minimum a public health sciences curriculum emphasizing two categories of specialization, i.e., category I—epidemiology and biostatistics, and category II—occupational safety and health, as well as related public health academic courses, including practicum? Did the applicant document prior experience with training programs for minority students in epidemiology, biostatistics, and occupational safety and health? Does the plan explain how the recipient will collaborate among and across educational departments to demonstrate the cross-disciplinary advantages of public health practice, and the importance of integrative and multi-disciplinary approaches to improving the health status and quality of life of disadvantaged minorities? Does the plan explain how the recipient will develop, plan and provide other educational support for encouraging the proactive recruitment of undergraduate students majoring in disciplines other than biology, chemistry, community health, or pre-medicine to increase their knowledge of public health practice? Has the applicant explained how it will award students three (3) semester (or equivalent) credit hours for completing public health course work?

—Staff and Management (20 points): Do staff members have adequate expertise and other sources for the successful implementation of the cooperative agreement training programs? Did the applicant document its location in the South and in proximity to CDC?

—Research Training and Skills Development (15 points): Did the applicant describe an approach to developing applied health research training projects (e.g., community assessments, programs, and materials evaluation, etc.) as an integral part of the public health sciences curriculum, including existing and/or anticipated resource needs?

—Public Health Sciences Advisory Group (10 points): Did the applicant explain the process for establishing a Public Health Sciences Advisory Group to help guide the implementation of the public health curriculum, the internship program, and activities related to research training and skills development?

—Evaluation Plan (10 points): Is a process established for evaluating the management and performance of the students who participate in the summer internship programs? Does this process include a reasonable plan for obtaining data and reporting results? Is there a description included of how a computerized tracking system will be developed and used as an evaluation tool for tracking and using programmatic results to enhance professional development of disadvantaged minority students in public health?

—Budget and Justification (Reviewed, but not scored)

V.2. Review and Selection Process

Applications will be reviewed for completeness by the Procurement and Grants Office (PGO) staff, and for program responsiveness by the Office of Minority Health (OMH). Incomplete applications and applications that are non-responsive to the eligibility criteria will not advance through the review process. Applicants will be notified that their application did not meet submission requirements.

An objective review panel will evaluate complete and responsive applications according to the criteria listed in the “V.1. Criteria” section above. The application review will be performed by CDC employees within the agency's CIOs. In addition, the following factors may affect the funding decision:

(a) Funding preference will be given to MIHEs who have a recent history of collaborating with the CDC on public health student training programs.

(b) Preference will be given to institutions with at least a 10-year track record of implementing public health internship and fellowship programs for minority students.

(c) Preference will be given to MIHEs with training programs for undergraduate minority students in epidemiology, biostatistics and occupational safety and health.

(d) Preference will be given to MIHEs located in the south and within proximity to the CDC.

(e) Preference will be given to MIHEs with dedicated servers and a computer laboratory suitable to support research training and data analysis.

(f) Funding preference will be given to institutions that have appropriate staff expertise and other sources of support for implementing public health internship and/or fellowship programs.

CDC will provide justification for any decision to fund out of rank order.

V.3. Anticipated Announcement and Award Dates

Anticipated Award Date: May 30, 2005.

VI. Award Administration Information

VI.1. Award Notices

Successful applicants will receive a Notice of Award (NOA) from the CDC Procurement and Grants Office. The NOA shall be the only binding, authorizing document between the recipient and CDC. The NOA will be signed by an authorized Grants Management Officer, and mailed to the recipient fiscal officer identified in the application.

Unsuccessful applicants will receive notification of the results of the application review by mail.

VI.2. Administrative and National Policy Requirements

45 CFR Parts 74 and 92

For more information on the Code of Federal Regulations, see the National Archives and Records Administration at the following Internet address: http://www.access.gpo.gov/nara/cfr/cfr-table-search.html. An additional Certifications form from the PHS5161-1 application needs to be included in your Grants.gov electronic submission only. Refer to http://www.cdc.gov/od/pgo/funding/PHS5161-1-Certificates.pdf. Once the form is filled out attach it to your Grants.gov submission as Other Attachments Form.

The following additional requirements apply to this project:

• AR-7 Executive Order 12372.

• AR-10 Smoke-Free Workplace Requirements.

• AR-11 Healthy People 2010.

• AR-12 Lobbying Restrictions

• AR-15 Proof of Non-Profit Status

• AR-16 Security Clearance Requirement

• AR-21 Small, Minority, and Women-Owned Business

Additional information on these requirements can be found on the CDC Web site at the following Internet address: http://www.cdc.gov/od/pgo/funding/ARs.htm.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Financial status report and annual progress report, no more than 90 days after the end of the budget period.

3. Final financial and performance reports, no more than 90 days after the end of the project period.

These reports must be mailed to the Grants Management Specialist listed in the “Agency Contacts” section of this announcement.

VII. Agency Contacts

We encourage inquiries concerning this announcement.

For general questions, contact: Technical Information Management Section, CDC Procurement and Grants Office, 2920 Brandywine Road, Atlanta, GA 30341, Telephone: 770-488-2700.

For program technical assistance, contact: Yvonne Lewis, Project Officer, CDC Office of Minority Health, 1600 Clifton Road, MS E-67, Atlanta, GA 30333, Telephone: 404-498-2336, E-mail: YLewis@cdc.gov.

For financial, grants management, or budget assistance, contact: Mattie Jackson, Grants Management Specialist, CDC Procurement and Grants Office, 2920 Brandywine Road, MS K-69, Atlanta, GA 30341, Telephone: 770-488-2696, E-mail: MJackson2@cdc.gov.

VIII. Other Information

This and other CDC funding opportunity announcements can be found on the CDC Web site, Internet address: http://www.cdc.gov. Click on “Funding” then “Grants and Cooperative Agreements.”

OMH Web site: http://www.cdc.gov/omh/.

Dated: February 17, 2005.
William P. Nichols,
Director, Procurement and Grants Office, Centers for Disease Control and Prevention.

[FR Doc. 05-3639 Filed 2-24-05; 8:45 am]

BILLING CODE 4163-18-P